DEPARTMENT OF JUSTICE

Notice of Lodging of Remedial Design/Remedial Action Consent Decree Under the Comprehensive Environmental Response, Compensation, and Liability Act of 1980, as Amended

Under Section 122(d) and (i) of the Comprehensive Environmental Response, Compensation, and Liability Act of 1980, as amended (“CERCLA”), 42 U.S.C. § 9622(d) and (i), notice is hereby given that on August 4, 2000 a proposed Remedial Design/Remedial Action Consent Decree (“RD/RA consent Decree” or “Decree”) in United States v. Gateway Forest Products, Inc. et al., Civil Action No. A00-225 CV was lodged with the United States District Court for the District of Alaska.

In this action, brought against Gateway Forest Products, Inc., Ketchikan Pulp Company (“KPC”) and Louisiana-Pacific Corporation (“L-P”) (collectively, “defendants”) pursuant to Sections 106, 107 and 113 of CERCLA, 42 U.S.C. §§ 9606, 9607 and 9613, the United States is seeking recovery of its past response costs, performance of remedial action by the defendants, and a declaration of the defendants' liability for further response costs associated with the Ketchikan Pulp Company Superfund Site (“the Site”). The Site is located approximately three miles northeast of Ketchikan, Alaska in and along the shoreline of Ward Cove.

The RD/RA Consent Decree requires defendants to implement the remedial actions selected by EPA for both the Marine and Uplands Operable Units of the Site on March 29, 2000 and June 7, 2000, respectively. The estimated cost of implementing the remedial actions is slightly more than $6.1 million. The Decree also resolves the government's claims for past response costs by requiring KPC and L-P to reimburse the Hazardous Substances Superfund in the amount of $371,057.00. It provides further for payment of future response costs, i.e., those associated with overseeing implementation of the remedial actions.

The Department of Justice will receive for a period of thirty (30) days from the date of this publication comments relating to the RD/RA Consent Decree. Comments should be addressed to the Assistant Attorney General, Environment and Natural Resources Division, P.O. Box 7611, U.S. Department of Justice, Washington, D.C. 20044-7611, and should refer to United States v. Gateway Forest Products, Inc. et al., D.J. Ref. 90-11-3-1726.

The proposed Decree may be examined at the Office of the United States Attorney, Federal Building and U.S. Courthouse, 222 West Seventh Avenue, Room 253, Anchorage, Alaska 99513-7567, and at U.S. EPA Region 10, Hazardous Waste Records Center, 1200 Sixth Avenue, Seattle, Washington 98101. A copy of the RD/RA Consent Decree may also be obtained by mail from the Consent Decree Library, P.O. Box 7611, U.S. Department of Justice, Washington, D.C. 20044-7611. In requesting a copy of the Decree, please enclose a check in the amount of $137.25 (25 cents per page reproduction cost) made payable to the Consent Decree Library. Alternatively, a copy exclusive of exhibits may be requested and paid for with a check in the amount of $20.75 made payable to the Consent Decree Library.

Bruce S. Gelber,
Deputy Chief, Environmental Enforcement Section, Environment & Natural Resources Division.

[FR Doc. 00-20888 Filed 8-16-00; 8:45 am]

BILLING CODE 4410-15-M